DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: The Occupational Safety and Health Administration announces that OMB extended its approval for a number of information collection requirements found in a number of OSHA's standards and regulations. OSHA sought approval of these requirements under the Paperwork Reduction Act of 1995 (PRA), and, as required by that Act, is announcing the approval numbers and expiration dates for these requirements and regulations.

DATES: This notice is applicable January 12, 2018.

FOR FURTHER INFORMATION CONTACT: Theda Kenney, Kenney.Theda@dol.gov, or Charles McCormick, McCormick.Charles@dol.gov; telephone (202) 693-2222.

SUPPLEMENTARY INFORMATION: In a series of Federal Register notices, the Agency announced its requests to OMB to renew its current extensions of approvals for various information collection (paperwork) requirements in its safety and health standards pertaining to general industry, shipyard employment, and the construction industry (i.e., 29 CFR parts 1910, 1915, 1917, 1918, 1919, and 1926), and regulations pertaining to the OSHA-7 Form, Occupational Safety and Health Administration Grantee Quarterly Progress Report, and Requirements for the Occupational Safety and Health Administration Training Institute Education Centers Program and Occupational Safety and Health Administration Outreach Training Program. In these Federal Register announcements, the Agency provided 60-day comment periods for the public to respond to OSHA's burden hour and cost estimates.

In accordance with the PRA (44 U.S.C. 3501-3520), OMB approved these information collection requirements. The table below provides the following information for each of these requirements approved by OMB: The title of the Federal Register notice; the Federal Register reference (date, volume, and leading page); OMB's Control Number; and the new expiration date.

Title of the information collection request | Date of Federal Register publication, Federal Register reference, and OSHA docket No. | OMB control No. | Expiration date
Anhydrous Ammonia Storage and Handling (29 CFR 1910.111) | April 25, 2017, 82 FR 19087, Docket No. OSHA-2010-0050 | 1218-0208 | 10/31/2020
Concrete and Masonry Construction (29 CFR part 1926, subpart Q) | February 24, 2017, 82 FR 11658, Docket No. OSHA-2010-0040 | 1218-0095 | 09/30/2020
Electric Power Generation, Transmission, and Distribution Standard for Construction and General Industry and Electrical Protective Equipment Standards for Construction and General Industry | April 5, 2017, 82 FR 16627, Docket No. OSHA-2017-0005 | 1218-0253 | 10/31/2020
Ethylene Oxide (EtO) (29 CFR 1910.1047) | April 5, 2017, 82 FR 16629, Docket No. OSHA-2009-0035 | 1218-0108 | 09/30/2020
Gear Certification (29 CFR part 1919) | December 22, 2016, 81 FR 93963, Docket No. OSHA-2010-0042 | 1218-0003 | 08/31/2020
Hazard Communication (29 CFR 1910.1200, 1915.1200, 1917.28, 1918.90, 1926.59, and 1928.21) | April 27, 2015, 80 FR 23300, Docket No. OSHA-2009-0014 | 1218-0072 | 10/31/2020
Hydrostatic Testing Provision of the Standard on Portable Fire Extinguishers (29 CFR 1910.157(f)(16)) | May 23, 2017, 82 FR 23609, Docket No. OSHA-2010-0025 | 1218-0238 | 11/30/2020
Logging Operations (29 CFR 1910.266) | March 9, 2017, 82 FR 13141, Docket No. OSHA-2010-0041 | 1218-0198 | 09/30/2020
Manlifts (29 CFR 1910.6(e)) | February 14, 2017, 82 FR 10588, Docket No. OSHA-2010-0051 | 1218-0226 | 10/31/2020
Notice of Alleged Safety or Health Hazards, OSHA-7 Form | April 24, 2017, 82 FR 18932, Docket No. OSHA-2010-0056 | 1218-0064 | 11/30/2020
Occupational Safety and Health Administration Grantee Quarterly Progress Report | May 22, 2017, 82 FR 23315, Docket No. OSHA-2010-0021 | 1218-0100 | 11/30/2020
Overhead and Gantry Cranes (29 CFR 1910.179) | April 25, 2017, 82 FR 19090, Docket No. OSHA-2010-0023 | 1218-0224 | 11/30/2020
Portable Fire Extinguishers (Annual Maintenance Certification Record) (29 CFR 1910.157(e)(3)) | April 24, 2017, 82 FR 18930, Docket No. OSHA-2010-0039 | 1218-0238 | 11/30/2020
Presence Sensing Device Initiation (PSDI) (29 CFR 1910.217(h)) | December 22, 2016, 81 FR 93962, Docket No. OSHA-2010-0009 | 1218-0143 | 06/30/2020
Requirements for the Occupational Safety and Health Administration Training Institute Education Centers Program and Occupational Safety and Health Administration Outreach Training Program | April 25, 2017, 82 FR 19089, Docket No. OSHA-2009-0022 | 1218-0262 | 10/31/2020
Rigging Equipment for Material Handling (29 CFR 1926.251) | April 24, 2017, 82 FR 18934, Docket No. OSHA-2010-0038 | 1218-0233 | 10/31/2020
Underground Construction (29 CFR 1926.800) | June 20, 2017, 82 FR 28098, Docket No. OSHA-2011-0029 | 1218-0067 | 11/30/2020
Walking-Working Surfaces (29 CFR part 1910, subpart D) | March 2, 2016, 81 FR 10918, Docket No. OSHA-2013-0002 | 1218-0199 | 02/29/2020

In accordance with 5 CFR 1320.5(b), an agency cannot conduct, sponsor, or require a response to a collection of information unless the collection displays a valid OMB control number and the Agency informs respondents that they need not respond to the collection of information unless it displays a valid OMB control number.

Authority and Signature

Loren Sweatt, Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on January 8, 2018.
Loren Sweatt,
Deputy Assistant Secretary of Labor for Occupational Safety and Health.

[FR Doc. 2018-00391 Filed 1-11-18; 8:45 am]

BILLING CODE P